DEPARTMENT OF TRANSPORTATION

Federal Aviation Administration

14 CFR Part 39

[Docket No. FAA-2024-2009; Project Identifier AD-2023-01286-R; Amendment 39-23121; AD 2025-17-11]

RIN 2120-AA64

Airworthiness Directives; MD Helicopters, LLC

AGENCY: Federal Aviation Administration (FAA), DOT.

ACTION: Final rule.

SUMMARY: The FAA is adopting a new airworthiness directive (AD) for certain MD Helicopters, LLC, Model 369 (Army YOH-6A), 369A (Army OH-6A), 369D, 369E, 369F, 369FF, 369H, 369HE, 369HM, 369HS, 500N, and 600N helicopters. This AD was prompted by multiple reports of cracked tail rotor (T/R) pedal support brackets. This AD requires repetitively inspecting certain part-numbered T/R pedal support brackets and depending on the results, replacing the T/R pedal support bracket or refinishing any exposed areas. This AD also prohibits installing certain part-numbered T/R pedal support brackets. The FAA is issuing this AD to address the unsafe condition on these products.

DATES: This AD is effective October 10, 2025.

The Director of the Federal Register approved the incorporation by reference of certain publications listed in this AD as of October 10, 2025.

ADDRESSES:

AD Docket: You may examine the AD docket at regulations.gov under Docket No. FAA-2024-2009; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For MD Helicopters material identified in this AD, contact MD Helicopters, LLC, 4555 East McDowell Road, Mesa, AZ 85215-9734; phone: (480) 346-6300; email: info@mdhelicopters.com; website: mdhelicopters.com/contact/.

• You may view this material at the FAA, Office of the Regional Counsel, Southwest Region, 10101 Hillwood Parkway, Room 6N-321, Fort Worth, TX 76177. For information on the availability of this material at the FAA, call (817) 222-5110. It is also available at regulations.gov under Docket No. FAA-2024-2009.

FOR FURTHER INFORMATION CONTACT: Eduardo Orozco-Duran, Aviation Safety Engineer, FAA, 3960 Paramount Boulevard, Lakewood, CA 90712; phone: (562) 627-5264; email: eduardo.orozco-duran@faa.gov.

SUPPLEMENTARY INFORMATION:

Background

The FAA issued a notice of proposed rulemaking (NPRM) to amend 14 CFR part 39 by adding an AD that would apply to MD Helicopters, LLC, Model 369 (Army YOH-6A), 369A (Army OH-6A), 369D, 369E, 369F, 369FF, 369H, 369HE, 369HM, 369HS, 500N, and 600N helicopters with certain part-numbered T/R pedal support brackets installed. The NPRM published in the Federal Register on August 28, 2024 (89 FR 68837). The NPRM was prompted by multiple reports of cracked T/R pedal support brackets, including a report of a forced emergency landing that was caused by a cracked magnesium cast T/R pedal support bracket. In the NPRM, the FAA proposed to require repetitively inspecting magnesium cast T/R pedal support brackets having P/N 369A7505-7, 369A7505-8, 369A7505-14, or 369A7505-15, and aluminum cast T/R pedal support brackets having P/N 369N2640-1 or 369N2640-2, and depending on the results, replacing the T/R pedal support bracket or refinishing any exposed areas. The FAA also proposed to prohibit installing magnesium cast T/R pedal support bracket P/N 369A7505-7, 369A7505-8, 369A7505-14, or 369A7505-15 on any helicopter. The FAA is issuing this AD to address the unsafe condition on these products.

Discussion of Final Airworthiness Directive

Comments

The FAA received comments from five commenters. The commenters were Bering Air Inc, MD Helicopters, an individual, and two anonymous commenters. An anonymous commenter and the individual supported the proposal without change, MD Helicopters and an anonymous commenter commented on the estimated costs to comply with the AD, Bering Air Inc, MD Helicopters, and an anonymous commenter requested different requirements for aluminum cast T/R pedal support brackets, and MD Helicopters requested changing the repetitive nondestructive inspections (NDIs). The following presents the comments received on the NPRM and the FAA's response to each comment.

Comments Regarding the Costs of Compliance

MD Helicopters and an anonymous commenter commented on the costs of the NDIs.

MD Helicopters stated that it believes the estimated cost information and the requirements proposed in the NPRM create an undue burden on operators. MD Helicopters stated that the work-hours and cost information to accomplish an NDI provided in the NPRM are very low, and that the FAA needs to do an availability assessment of certified NDI inspectors, as operators will likely have to remove and ship the bracket to a facility for the NDIs. MD Helicopters further stated that the cost information does not account for removing and reinstalling a bracket for this alternate action or its administrative costs such as shipping costs, nor does it account for lost revenue while the helicopter is out of service. MD Helicopters also stated that a large portion of operators would need to do an NDI two to three times per year.

An anonymous commenter stated that the estimated cost information in the NPRM to accomplish an NDI is too low. The anonymous commenter stated that a Level II or Level III (inspector certified in the FAA-acceptable standards for NDI personnel) for two hours of work is between $500-$800, plus incidentals such as travel costs, which travel costs could double or triple compliance costs particularly for those in remote locations. The anonymous commenter further stated that the cost of repetitive inspections for some operators needs to be properly accounted for and the alternate option of treating the bracket as a rotatable part could also be costly.

The FAA acknowledges the commenters' concerns regarding the NDIs and the availability of Level II or Level III inspectors. The cost information specified in AD rulemaking describes only the direct costs of the specific actions required by the AD. The manufacturer specified its best estimate of the number of work-hours necessary to accomplish an NDI in the material incorporated by reference. This number represents the time necessary to perform an NDI required by this AD. The FAA recognizes that, in doing the actions required by an AD, operators might incur incidental costs in addition to the direct costs. The cost analysis in AD rulemaking does not include indirect or incidental costs such as time for planning, down-time, loss of revenue, or other administrative actions since those costs might vary significantly among operators. In addition, the labor rate of $85 per work-hour for the FAA to use when estimating the labor costs of complying with AD requirements is provided by the Bureau of Labor Statistics, found at bls.gov/oes/current/oes493011.htm. Lastly, the FAA recognizes that this AD may require operators to accomplish multiple instances of the repetitive NDIs each year on certain helicopters, particularly high usage helicopters as the high usage rate increases the likeliness of occurrence of T/R pedal support bracket cracking. Because of these comments, the FAA completed a Final Regulatory Flexibility Analysis (FRFA) for this AD to analyze its impact on small businesses and updated the number of affected helicopters. Further information regarding that analysis is provided in the Regulatory Flexibility Determination paragraph in the preamble of this final rule. While the costs for a Level II or Level III inspector do not impact the cost estimate, FAA evaluation removed the proposed requirement that the inspections must be performed by a Level II or Level III inspector certified in the FAA-acceptable standards for nondestructive inspection personnel. This may assist in each operator's incidental costs associated with the requirements of this AD.

Comments Regarding Requirements for Aluminum Parts

Bering Air Inc, MD Helicopters, and an anonymous commenter requested different requirements for aluminum cast T/R pedal support brackets (P/Ns 369N2640-1 and 369N2640-2).

Bering Air Inc, asked why the same inspections for magnesium brackets are also required for aluminum brackets, since there have been no reports of cracks in the aluminum brackets. Bering Air Inc, questioned how many of the cracked 17 magnesium brackets were caused by corrosion and stated that the magnesium brackets have the issues, possibly due to poor corrosion control. The FAA infers that Bering Air Inc, is requesting the FAA to remove or differentiate requirements for aluminum cast T/R pedal support brackets having P/N 369N2640-1 or 369N2640-2.

The type design holder, MD Helicopters, stated that it believes aluminum cast T/R pedal support brackets having P/N 369N2640-1 or 369N2640-2 should not be included in the applicability of this AD because they have not experienced a problem as existing visual inspections specified in the maintenance manual are adequate. MD Helicopters explained that these brackets incorporate a protective coating and are not as susceptible to corrosion issues or fatigue cracking compared to the magnesium brackets. Lastly, MD Helicopters stated that installation of these brackets should be terminating action for the requirements of the AD.

An anonymous commenter suggested the FAA consider relieving compliance terms and times for aluminum cast T/R pedal support brackets having P/N 369N2640-1 or 369N2640-2 or consider these parts as closing actions. The FAA infers that “closing actions” means requiring installation of aluminum cast T/R pedal support brackets as terminating action for the requirements for magnesium cast T/R pedal support brackets having P/N 369A7505-7, 369A7505-8, 369A7505-14, or 369A7505-15. The anonymous commenter stated that the aluminum cast T/R pedal support brackets have not been involved in an event and this would provide operators with a cost-effective means of compliance.

The FAA acknowledges these comments and disagrees with different requirements for aluminum cast T/R pedal support brackets (P/Ns 369N2640-1 and 369N2640-2). While the aluminum cast bracket material properties can offer greater mitigation of risk of corrosion, the aluminum cast bracket is still susceptible to deficiencies of cast parts and therefore, should be repetitively inspected. Additionally, no supporting data explaining or showing that aluminum cast brackets are resistant to the unsafe condition of fatigue damage and cracking was submitted for review with these comments. Although MD Helicopters service material is only applicable to the magnesium brackets, the FAA has determined that the aluminum material does not demonstrate an acceptable level of confidence and therefore the aluminum cast T/R pedal support brackets having P/N 369N2640-1 or 369N2640-2 are also part of the unsafe condition. Accordingly, the FAA has included those T/R pedal support brackets in the applicability of this final rule. However, once this AD is published, any person may request an alternative method of compliance (AMOC) by following the procedures specified in paragraph (h) of this AD. The FAA has made no changes to this AD based on those comments.

Request To Change Repetitive NDI Requirements

MD Helicopters stated that it believes the repetitive NDIs create an undue burden on operators. MD Helicopters stated that a Level II nondestructive technician is necessary for only the initial fluorescent penetrant inspection (FPI), and that repetitive visual inspections using 10X power magnifier or a borescope following the initial FPI are sufficient. The FAA infers that MD Helicopters is requesting the FAA to change the repetitive NDIs.

The FAA disagrees that the repetitive NDIs should be changed. The FAA determined that repetitive FPIs, eddy current inspections, or dye penetrant inspections, as specified in the material incorporated by reference, which was issued by MD Helicopters, are necessary to address the unsafe condition. Additionally, no supporting data explaining or showing that repetitive visual inspections for the second and subsequent instances of the NDIs substantiate an acceptable level of safety was submitted to review. However, the FAA determined that the proposal that the T/R pedal support bracket inspections be performed by a Level II or Level III inspector may be burdensome and that performing the inspections using a Level I inspector provides an adequate level of safety, and this AD has been revised accordingly.

The FAA also determined that when refinishing any exposed areas following the determination that there is not a crack as a result of an NDI, it is necessary to ensure that the T/R pedal support bracket is cleaned from any penetrant residue. The FAA has revised that requirement accordingly.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed MD Helicopters Service Bulletin SB369D-231R2 for Model 369D helicopters, SB369E-131R2 for Model 369E helicopters, SB369F-122R2 for Model 369F and 369FF helicopters, SB369H-265R2 for Model 369H, 369HE, 369HM, and 369HS helicopters, SB500N-068R2 for Model 500N helicopters, and SB600N-082R2 for Model 600N helicopters, each dated November 1, 2023 (co-published as one document). For magnesium cast T/R pedal support brackets P/N 369A7505-7, 369A7505-8, 369A7505-14, and 369A7505-15, this material specifies procedures for visually inspecting each T/R pedal support bracket for a crack and corrosion and depending on the results, replacing the bracket with an aluminum cast T/R pedal support bracket having P/N 369N2640-1 or 369N2640-2, or refinishing any exposed areas. For magnesium cast T/R pedal support brackets P/N 369A7505-7, 369A7505-8, 369A7505-14, and 369A7505-15, this material also specifies procedures for fluorescent penetrant inspecting, eddy current inspecting, or dye penetrant inspecting each T/R pedal support bracket for a crack and depending on the results, replacing the bracket with an aluminum cast T/R pedal support bracket having P/N 369N2640-1 or 369N2640-2, or refinishing any exposed areas. For the purpose of this AD, MD Helicopters, LLC, Model 369 (Army YOH-6A) and 369A (Army OH-6A) helicopters use MD Helicopters Service Bulletin SB369D-231R2, dated November 1, 2023, to accomplish certain actions required by this AD.

This material is reasonably available because the interested parties have access to it through their normal course of business or by the means identified in the ADDRESSES section.

Costs of Compliance

The FAA estimates that this AD affects 556 helicopters of U.S. registry. Labor rates are estimated at $85 per hour. Based on these numbers, the FAA estimates the following costs to comply with this AD.

Visually inspecting the T/R pedal support brackets (up to two T/R pedal support brackets per helicopter) will take approximately 0.5 work-hour for an estimated cost of up to $43 per helicopter and $23,908 for the U.S. fleet per inspection cycle. Non-destructive inspection of the T/R pedal support brackets will take approximately 2 work-hours for an estimated cost of up to $170 per helicopter and $94,520 for the U.S. fleet per inspection cycle.

If required, replacing a T/R pedal support bracket will take approximately 8 work-hours and parts will cost approximately $2,075 for an estimated cost of $2,755 per T/R pedal support bracket. Refinishing any exposed areas could vary significantly from helicopter to helicopter. The FAA has no data to determine the costs to accomplish this action or the number of helicopters that may require this action.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act Determination

The Regulatory Flexibility Act (RFA) of 1980, (5 U.S.C. 601-612), as amended by the Small Business Regulatory Enforcement Fairness Act of 1996 (Pub. L. 104-121) and the Small Business Jobs Act of 2010 (Pub. L. 111-240), requires Federal agencies to consider the effects of the regulatory action on small business and other small entities and to minimize any significant economic impact. The term “small entities” comprises small businesses and not-for-profit organizations that are independently owned and operated and are not dominant in their fields, and governmental jurisdictions with populations of less than 50,000.

The FAA considered the public comments in developing this AD and this FRFA. As of February 13, 2024, there were 369 operators of affected helicopters in service and 556 total affected helicopters. The operators come from a diverse group ranging from the U.S. military, municipalities, federal government agencies, scheduled and unscheduled aviation entities, and electricity providers, to name a few. The U.S. Army is the most affected and operate 45 helicopters, 5 operators operate between 10 and 12 helicopters, 36 operators operate between 3 and 9 helicopters, and the remaining 327 operators operate 2 or less helicopters. Some operators use the affected helicopters to aid in their primary business objective—such as power and communication line companies that use them to install or repair their infrastructure. Others use them as their primary business objective—such as providing transportation to customers on a scheduled or unscheduled basis.

Given that there are many affected entities, FAA took a sample of 12 entities out of the 327 operators to determine the industries of these entities and their size. The FAA used a subscription-based online database of U.S. entities, D&B Hoovers Online, to determine the North American Industry Classification System (NAICS) code, revenue, and employee count for each entity. Based on the United States Small Business Administration (SBA) size standards ¹ these 12 entities are considered small and are affected by this rule. The NAICS codes associated with these entities are and details about size standards are listed in Table 1.

¹ U.S. Small Business Administration—Table of Small Business Size Standards (2023). https://www.sba.gov/sites/default/files/2023-06/Table%20of%20Size%20Standards_Effective%20March%2017%2C%202023%20%282%29.pdf.

Table 1—NAICS Codes of Sampled Impacted Small Entities
NAICS industry description | NAICS code | Small business size standard ¹ | Average size of sample | Number of entities
Water and Sewer Line and Related Structures Construction | 237110 | $45,000,000 | $8,520,000 | 1
Power and Communication Line and Related Structures Construction | 237130 | $45,000,000 | $1,540,000 | 1
Scheduled Passenger Air Transportation | 481111 | 1,500 Employees | 36 Employees | 2
Nonscheduled Chartered Passenger Air Transportation | 481211 | 1,500 Employees | 15 Employees | 1
Other Nonscheduled Air Transportation | 481219 | $25,000,000 | $5,661,000 | 6
Other Airport Operations | 488119 | $40,000,000 | $2,020,000 | 1
¹ The figures represent either the average annual receipts or average employment of a firm.

The lowest cost an entity can incur for inspection from this AD is when only a visual inspection is required. This occurs when the bracket is visually inspected by a Level I Non-destructive Testing (NDT) Inspector and deems it does not require maintenance. FAA estimated the cost for visual inspection at $43. The high-cost case that the FAA estimated is $170 which requires 2 work-hours to conduct non-destructive inspection. However, MD Helicopters commented that the total cost for one inspection would cost $930. This estimate includes $680 to remove the bracket, $170 for the NDT inspection to be completed by an outside agency, and $80 for shipping charges.² Due to the issues of cost as provided by MD Helicopters, and the FAA's determination that performing the inspections using a Level I inspector provides an adequate level of safety, the FAA removed the proposed requirement that inspections must be performed by a Level II or Level III inspector certified in the FAA-acceptable standards for nondestructive inspection personnel. This change broadens the personnel that can do the inspection. Thus the change (1) reduces the likelihood of needing to remove the bracket as it is easier to find a Level I NDT inspector to perform an on-site inspection of the bracket while it is being installed, (2) reduces the cost to conduct the inspection as a more credentialed (Level II/III) inspector would cost more, and (3) eliminates the shipping costs when NDT inspectors are able to do an on-site inspection. An NDT inspection should be done every 300 hours which, on average,³ is approximately once a year and can be conducted in conjunction with yearly inspections. Therefore, the MD Helicopters $930 estimated cost can be as low as $170, the same cost that the FAA estimated for brackets to have an NDT inspection.

² The shipping charge included shipping to the inspector and return after the inspection is completed.

³ FAA based this fleet usage average on information provided by MD Helicopters.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-17-11 MD Helicopters, LLC: Amendment 39-23121; Docket No. FAA-2024-2009; Project Identifier AD-2023-01286-R.

(a) Effective Date

This airworthiness directive (AD) is effective October 10, 2025.

(b) Affected ADs

None.

(c) Applicability

This AD applies to MD Helicopters, LLC, Model 369 (Army YOH-6A), 369A (Army OH-6A), 369D, 369E, 369F, 369FF, 369H, 369HE, 369HM, 369HS, 500N, and 600N helicopters, certificated in any category, with a tail rotor (T/R) pedal support bracket part number (P/N) 369A7505-7, 369A7505-8, 369A7505-14, 369A7505-15, 369N2640-1, or 369N2640-2, installed.

(d) Subject

Joint Aircraft System Component (JASC) Code: 6720, tail rotor control system.

(e) Unsafe Condition

This AD was prompted by multiple reports of cracked T/R pedal support brackets. The FAA is issuing this AD to detect a cracked T/R pedal support bracket. The unsafe condition, if not addressed, could result in failure of the T/R pedal support bracket, reduced controllability of the helicopter, and consequent loss of control of the helicopter.

(f) Compliance

Comply with this AD within the compliance times specified, unless already done.

(g) Required Actions

(1) Within 25 hours time-in-service (TIS) and thereafter at intervals not to exceed 100 hours TIS, using a 10X power magnification glass, mirror, and flashlight, visually inspect each T/R pedal support bracket for cracks and corrosion by following the Accomplishment Instructions, paragraph 2.A.(2)., of MD Helicopters Service Bulletin SB369D-231R2, SB369E-131R2, SB369F-122R2, SB369H-265R2, SB500N-068R2, or SB600N-082R2, each dated November 1, 2023 (collectively referred to as “the service bulletins”), as applicable to your helicopter model; you may use a borescope as specified in the note in paragraph 2.A.(2) of the service bulletins. For the purpose of this AD, for MD Helicopters, LLC, Model 369 (Army YOH-6A) and 369A (Army OH-6A) helicopters, use MD Helicopters Service Bulletin SB369D-231R2, dated November 1, 2023, to accomplish the actions required by this AD.

(i) If there is a crack or any corrosion as a result of the inspections required by the introductory text of paragraph (g)(1) of this AD, before further flight, remove the T/R pedal support bracket from service and replace it with a serviceable T/R pedal support bracket P/N 369N2640-1 or 369N2640-2.

(ii) If there is not a crack and there is no corrosion as a result of the inspections required by the introductory text of paragraph (g)(1) of this AD, before further flight, refinish any exposed areas.

(2) Within 50 hours TIS and thereafter at intervals not to exceed 300 hours TIS, eddy current, dye penetrant, or fluorescent penetrant inspect each T/R pedal support bracket for a crack by following the Accomplishment Instructions, paragraph 2.B.(2)., of the service bulletins, as applicable to your helicopter model.

(i) If there is a crack as a result of the actions required by the introductory text of paragraph (g)(2) of this AD, before further flight, remove the T/R pedal support bracket from service and replace it with a serviceable T/R pedal support bracket P/N 369N2640-1 or 369N2640-2.

(ii) If there is not a crack as a result of the actions required by the introductory text of paragraph (g)(2) of this AD, before further flight, refinish any exposed areas and ensure the T/R pedal support bracket is cleaned from any penetrant residue.

(3) As of the effective date of this AD, do not install magnesium cast T/R pedal support bracket P/N 369A7505-7, 369A7505-8, 369A7505-14, or 369A7505-15 on any helicopter.

(h) Alternative Methods of Compliance (AMOCs)

(1) The Manager, West Certification Branch, FAA, has the authority to approve AMOCs for this AD, if requested using the procedures found in 14 CFR 39.19. In accordance with 14 CFR 39.19, send your request to your principal inspector or local Flight Standards District Office, as appropriate. If sending information directly to the manager of the West Certification Branch, send it to the attention of the person identified in paragraph (i) of this AD and email to AMOC@faa.gov.

(2) Before using any approved AMOC, notify your appropriate principal inspector, or lacking a principal inspector, the manager of the local flight standards district office/certificate holding district office.

(i) Additional Information

(1) For more information about this AD, contact Eduardo Orozco-Duran, Aviation Safety Engineer, FAA, 3960 Paramount Boulevard, Lakewood, CA 90712; phone: (562) 627-5264; email: eduardo.orozco-duran@faa.gov.

(2) For advisory circular material identified in this AD that is not incorporated by reference, go to faa.gov/regulations_policies/advisory_circulars/index.cfm/go/document.information/documentID/1023552.

(j) Material Incorporated by Reference

(1) The Director of the Federal Register approved the incorporation by reference (IBR) of the material listed in this paragraph under 5 U.S.C. 552(a) and 1 CFR part 51.

(2) You must use this material as applicable to do the actions required by this AD, unless the AD specifies otherwise.

(i) MD Helicopters Service Bulletin SB369D-231R2, dated November 1, 2023.

(ii) MD Helicopters Service Bulletin SB369E-131R2, dated November 1, 2023.

(iii) MD Helicopters Service Bulletin SB369F-122R2, dated November 1, 2023.

(iv) MD Helicopters Service Bulletin SB369H-265R2, dated November 1, 2023.

(v) MD Helicopters Service Bulletin SB500N-068R2, dated November 1, 2023.

(vi) MD Helicopters Service Bulletin SB600N-082R2, dated November 1, 2023.

Note 1 to paragraph (j)(2): The service bulletins identified in paragraphs (j)(2)(i) through (vi) of this AD are co-published as one document.

(3) For MD Helicopters material identified in this AD, contact MD Helicopters, LLC, 4555 East McDowell Road, Mesa, AZ 85215-9734; phone: (480) 346-6300; email: info@mdhelicopters.com; website: mdhelicopters.com/contact/.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on August 29, 2025.
Steven W. Thompson,
Acting Deputy Director, Compliance & Airworthiness Division, Aircraft Certification Service.

[FR Doc. 2025-17026 Filed 9-4-25; 8:45 am]

BILLING CODE 4910-13-P